DEPARTMENT OF TRANSPORTATION

Federal Highway Administration

[Docket No. FHWA-2011-0134]

Agency Information Collection Activities: Notice of Request for Approval of a New Information Collection

AGENCY: Federal Highway Administration (FHWA), DOT.

ACTION: Notice of request for approval of a new information collection.

SUMMARY: The FHWA invites public comments about our intention to request the Office of Management and Budget's (OMB) approval of a new information collection that is summarized below under SUPPLEMENTARY INFORMATION. We are required to publish this notice in the Federal Register by the Paperwork Reduction Act of 1995.

DATES: Please submit comments by March 5, 2012.

ADDRESSES: You may submit comments identified by DOT Docket ID Number 2011-0134 by any of the following methods:

Web Site: For access to the docket to read background documents or comments received, go to the Federal eRulemaking Portal: http://www.regulations.gov. Follow the online instructions for submitting comments.

Fax: 1 (202) 493-2251.

Mail: Docket Management Facility, U.S. Department of Transportation, West Building Ground Floor, Room W12-140, 1200 New Jersey Avenue SE., Washington, DC 20590.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Keith Williams, (202) 366-9212, Highway Safety Specialist, Program Planning Team, Office of Safety Programs, Federal Highway Administration, Department of Transportation, 545 John Knox Road Suite 200, 1200 New Jersey Avenue SE., Room E73-405, Washington, DC 20590, Monday through Friday, except Federal holidays.

SUPPLEMENTARY INFORMATION:

Title: Compendium of State Performance Management Practices and Methodologies for Setting a National Safety Performance Target.

Type of request: New information collection requirement.

Background: This information collection effort is part of a larger project to document the methodologies currently used by the States to develop highway safety performance measures and targets. The research project includes a literature review of current guidance and practices, a technical report on performance management and target setting in comparable non-highway safety environments, a peer exchange to explore methodologies and establish promising practices and finally, alternative methodologies for setting a national highway safety performance target.

This information collection will specifically support a compendium and evaluation of how baseline information is used in individual States, the District of Columbia, Metropolitan Planning Organizations (MPOs), local and tribal agencies to select, set and evaluate performance based highway safety measures and how they affect the overall State's highway safety programs. FHWA proposes to conduct a Web-based survey to evaluate the methodologies used by State Departments of Transportation, State Governor's Highway Safety Offices, select Metropolitan Planning Organizations and local departments of transportation to identify methodologies for selecting highway safety performance measures and methodologies for setting performance targets based on those measures. Sample size will be approximately 150 to 160 persons, representing each of the State Departments of Transportation; each of the Governor's Highway Safety Offices, the District of Columbia, and select MPOs and local departments of transportation. Interview length will be approximately 30 minutes.

The surveys will be conducted by emailing a URL link to the appropriate representative within each organization. A standardized questionnaire will be used to collect the information from the representatives. This information collection will not require complex statistical analysis and will not be published for general public consumption. The collection will be used to support further research in developing and evaluating a methodology to set and support National and State highway safety performance measures and targets. Respondents: State DOT's the District of Columbia, and select MPOs and local departments of transportation (160 total).

Frequency: Annually.

Estimated Average Burden per Response: It will take approximately 30 minutes per participant.

Estimated Total Annual Burden Hours: Approximately 30 hours annually.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: December 28, 2011.
Michael Howell,
Acting Chief, Management Programs and Analysis Division.

[FR Doc. 2011-33749 Filed 1-3-12; 8:45 am]

BILLING CODE 4910-22-P